ENVIRONMENTAL PROTECTION AGENCY

[EPA-HQ -OW-2003-0033; FRL 9905-73-OEI]

Information Collection Request Submitted to OMB for Review and Approval; Comment Request; Modification of Secondary Treatment Requirements for Discharges Into Marine Waters (Renewal)

AGENCY: Environmental Protection Agency (EPA).

ACTION: Notice.

SUMMARY: The Environmental Protection Agency has submitted an information collection request (ICR), “Modification of Secondary Treatment Requirements for Discharges into Marine Waters (Renewal)” to the Office of Management and Budget (OMB) for review and approval in accordance with the Paperwork Reduction Act (44 U.S.C. 3501 et seq.). This is a proposed extension of the ICR, which is currently approved through 01/31/2014. Public comments were previously requested via the Federal Register (78 FR 59345) on September 26, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 3, 2014.

ADDRESSES: Submit your comments, referencing Docket ID Number EPA-HQ-OW-2003-0033, to (1) EPA online using www.regulations.gov (our preferred method), by email to OW-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Virginia Fox-Norse, Oceans and Coastal Protection Division, Office of Wetlands, Oceans and Watersheds, (Mail Code 4504T), Environmental Protection Agency, 1200 Pennsylvania Ave. NW., Washington, DC 20460; telephone number: (202) 566-1266; fax number: (202) 566-1337; email address: fox-norse.virginia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

EPA ICR Number: 0138.10.

OMB Control Number: 2040-0088.

Abstract: The Clean Water Act (CWA) section 301(h) program involves collecting information from two sources: (1) The municipal wastewater treatment facility, commonly called a publicly owned treatment works (POTW); and (2) the state in which the POTW is located. Municipalities had the opportunity to apply for a waiver from secondary treatment requirements, but that opportunity closed in December 1982. A POTW that seeks a section 301(h) waiver does so voluntarily to obtain or retain a benefit. A POTW seeking to obtain a 301(h) waiver, holding a current waiver, or reapplying for a waiver, provides application, monitoring, and toxic control program information. The state provides information on its determination whether the proposed conditions of the waiver ensure the protection of water quality, biological habitats, and beneficial uses of receiving waters, and whether the discharge will result in additional treatment, pollution control, or any other requirement for any other point or nonpoint sources. The state also provides information to certify that the discharge will meet all applicable state laws and that the state accepts all permit conditions. EPA requires updated information on the discharge to: (1) Determine whether the section 301(h) criteria are still being met and whether the section 301(h) waiver should be reissued; (2) determine whether the water quality, biological habitats, and beneficial uses of the receiving waters are protected; and (3) ensure that the permittee is effectively minimizing industrial and nonindustrial toxic pollutant and pesticide discharges into the treatment works. EPA needs information from the state to: (1) Allow the state's views to be taken into account when EPA reviews the section 301(h) application and develops permit conditions; and (2) ensure that all state laws are met and that the state accepts all permit conditions. This information is the means by which the state can non-concur with a section 301(h) approval decision made by the EPA Regional office. Regulations implementing CWA section 301(h) are found at 40 CFR part 125, subpart G. The information covered by this information collection request involves treatment plant operating data, effects of POTWs' discharges on marine environments, and states' viewpoints on issues concerning effects of POTWs' discharges on marine environments.

Form Numbers: “None.”

Respondents/affected entities: Entities potentially affected by this action are those municipalities that currently have section 301(h) waivers from secondary treatment, or have applied for a renewal of a section 301(h) waiver, and the states within which these municipalities are located.

Respondent's obligation to respond: Required to obtain or retain a benefit.

Estimated number of respondents: 37 (total).

Frequency of response: From once every five years, to varies case-by-case, depending on the category of information.

Total estimated burden: 59,370 hours (per year). Burden is defined at 5 CFR 1320.3(b).

Total estimated cost: $1.3 million (per year), includes $0 annualized capital or operation & maintenance costs.

Changes in the Estimates: There is a decrease in the total estimated respondent burden compared with the ICR currently approved by OMB, due to changes in the respondent universe, program status, information needs, and the use of technology.

Richard T. Westlund,
Acting Director, Collection Strategies Division.

[FR Doc. 2014-01855 Filed 1-29-14; 8:45 am]

BILLING CODE 6560-50-P